ENVIRONMENTAL PROTECTION AGENCY

40 CFR Part 180

[EPA-HQ-OPP-2014-0008; FRL-9911-67]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before September 2, 2014.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (BPPD) (7511P), telephone number: (703) 305-7090; email address: BPPDFRNotices@epa.gov., Lois Rossi, Registration Division (RD) (7505P), telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerance

1. PP 3F8166. (EPA-HQ-OPP-2013-0268). Syngenta Crop Protection, LLC, P.O. Box 18300, Greensboro, NC 27419, requests to establish a tolerance in 40 CFR part 180 for residues of the fungicide, thiabendazole (2-(4-thiazolyl)benzimidazole) and its metabolite benzimidazole, in or on vegetable, root (except sugar beet), subgroup 1B at 0.02 ppm; radish, tops at 0.02 ppm; onion, bulb, subgroup 3-07A at 0.02 ppm; brassica, head and stem, subgroup 5-A at 0.02 ppm; vegetable, cucurbit group 9 at 0.02 ppm; barley, grain at 0.05 ppm; barley, hay at 0.30 ppm; barley, straw at 0.30 ppm; wheat, grain at 0.05 ppm; wheat, straw at 0.30 ppm; wheat, hay at 0.30 ppm; wheat, forage 0.30 ppm; oats, grain at 0.05 ppm; oats, hay at 0.30 ppm; oats, straw at 0.30 ppm; oats, forage at 0.30 ppm; rye, grain at 0.05 ppm; rye, straw at 0.30 ppm; rye, forage at 0.30 ppm; triticale, grain at 0.05 ppm; triticale, hay at 0.30 ppm; triticale, straw at 0.30 ppm; triticale, forage at 0.30 ppm; alfalfa, forage at 0.02 ppm; alfalfa, hay at 0.02 ppm; and spinach at 0.02 ppm. The Pesticide Analytical Manual (PAM) Vol. II lists four spectrophotoflurometric methods (Methods I, A, B and C) for spectrophotoflurometric method (Method D) for determining residues of thiabendazole and 5-hydroxy-thiabendazole in milk. This Notice of Filing (NOF) supersedes the NOF published June 5, 2013, Vol 78. Number 198. (RD)

2. PP 4E8257. (EPA-HQ-OPP-2014-0315). Interregional Research Project Number 4 (IR-4), IR-4 Project Rutgers, The State University of New Jersey, 500 College Road East, Suite 201 W, Princeton, NJ 08540, requests to establish a tolerance in 40 CFR part 180 for residues of the fungicide, captan (N- trichloromethylthio-4-cyclohexene-1,2-dicarboximide), in or on ginseng at 1.5 ppm. The analytical method, gas chromatography/electron capture detector (GC/ECD) is used to measure and evaluate residues of captan per se in or on plant commodities, and is listed as Method I, in PAM, Vol. II. (RD)

3. PP 4E8264. (EPA-HQ-OPP-2014-0346). IR-4, IR-4 Project Headquarters, Rutgers, The State University of New Jersey, 500 College Road East, Suite 201 W, Princeton, NJ 08450, requests to establish a tolerance in 40 CFR part 180 for residues of the fungicide, prohexadione calcium, in or on the raw agricultural commodities strawberry at 0.3 ppm and watercress at 2.0 ppm. Analytical methods using liquid chromatography with tandem mass spectrometry (LC/MS/MS) and gas chromatography-mass spectrometry (GC-MS) are used to measure and evaluate the chemical, prohexadione calcium, in strawberry and watercress, respectively. (RD)

4. PP 4F8240. (EPA-HQ-OPP-2014-0303). Syngenta Crop Protection, LLC, P.O. Box 18300, Greensboro, NC 27419, requests to establish a tolerance in 40 CFR part 180 for residues of the of the herbicide, mesotrione (2-[4-(methylsulfonyl)-2-notrobenzoyl]-1,3-cyclohexadione) in or on the raw agricultural commodities; citrus fruit, crop group 10-10 at 0.01 ppm; pome fruit, crop group 11-10 at 0.01 ppm; stone fruit, crop group 12-12 at 0.01 ppm; tree nuts, crop group 14-12 at 0.01 ppm; and almond hulls at 0.015 ppm. The practical and specific analytical method RAM 366/01, utilizing high-performance liquid chromatography (HPLC) with tandem mass-spectrometry (MS/MS) detection, is available for detecting and measuring the level of mesotrione in or on various crop commodities. This method has been submitted to the Agency for inclusion in the Pesticide Analytical Manual Volume II (PAM II) as a confirmatory method. (RD)

5. PP4F8249. (EPA-HQ-OPP-2014-0314). Dow Agro Sciences, LLC, 9330 Zionsville Road, Indianapolis, IN 46268-1054, requests to establish a tolerance in 40 CFR part 180 for residues of the herbicide, triclopyr, [(3,5,6-trichloro-2-pyridinyl)oxy] acetic acid in or on milk, fat at 0.7 ppm. An analytical method using electron capture gas chromatography is used to measure and evaluate the chemical triclopyr. (RD)

6. PP 4F8254. (EPA-HQ-OPP-2014-0340). Syngenta Crop Protection, LLC, P.O. Box 18300, Greensboro, NC 27419, requests to establish a tolerance in 40 CFR part 180 for residues of the plant growth regulator, trinexapac-ethyl (4-(cyclopropyl-α-hydroxy-methylene)-3,5-dioxo-cyclohexanecarboxylic acid ethyl ester), expressed as its primary metabolite CGA-179500 (4-(cyclopropyl-α-hydroxy-methylene)-3,5-dioxo-cyclohexanecarboxylic acid), in or on rice, bran at 1.5 ppm; rice, grain at 0.4 ppm; rice, straw at 0.07 ppm; rice, wild, grain at 0.4 ppm; rye, bran at 2.5 ppm; rye, grain at 2.0 ppm; rye, hay at 0.8 ppm; and rye, straw at 0.4 ppm. Adequate enforcement methodology LC/MS/MS methods (GRM020.01A) is available to enforce the tolerance expression. (RD)

7. PP 4F8256. (EPA-HQ-OPP-2014-0339). BASF Corporation, 26 Davis Drive, P.O. Box 13528, Research Triangle Park, NC 27709-3528, requests to establish a tolerance in 40 CFR part 180 for residues of the herbicide, saflufenacil (2-chloro-5-[3,6-dihydro-3-methyl-2,6-dioxo-4-(trifluoromethyl)-1(2H)-pyrimidinyl]-4-fluoro-N-[[methyl(1-methylethyl)amino]sulfonyl]benzamide) and its metabolites, in or on alfalfa, forage at 0.075 ppm and alfalfa, hay at 0.10 ppm. Adequate enforcement methodology LC/MS/MS methods D0603/02 (plants) and L0073/01 (livestock) are available to enforce the tolerance expression. (RD)

8. PP 4F8263. (EPA-HQ-OPP-2014-0354). Syngenta Crop Protection, LLC, 410 Swing Road, P.O. Box 18300, Greensboro, NC 27419, requests to establish a tolerance in 40 CFR part 180 for residues of the fungicide sedaxane (N-[2-[1,1′-bicyclopropyl]-2-ylphenyl]-3-(difluoromethyl)-1-methyl-1H-pyrazole-4-carboxamide), as a seed treatment for cotton, undelinted seed at 0.01 ppm; cotton, gin byproducts at 0.01 ppm; and beet, sugar at 0.01 ppm. Various crops were analyzed for sedaxane (parent only) using a procedure for analysis of sedaxane (SYN524464) that can distinguish between its trans- and cis- isomers (SYN508210 and SYN508211). Plant matrices using method GRM023.01A, or modified method GRM023.01B are taken through an extraction procedure with final determination by HPLC with triple quadrupole MS detection LC-MS/MS. (RD)

Amended Tolerance

1. PP 4F8245. (EPA-HQ-OPP-2014-0247) from BASF Corporation, 26 Davis Drive, Research Triangle Park, NC, 27709 requests to amend the tolerances in 40 CFR 180.361 for the combined residues of the herbicide, pendimethalin (N-(1-ethylpropyl)-3,4-dimethyl-2,6dinitrobenzenamine), and its 3, 5-dinitrobenzyl alcohol metabolite (CL 202347) in or on the raw agricultural commodities of alfalfa, forage at 80 ppm; and alfalfa, hay at 150 ppm. In plants the method is aqueous organic solvent extraction, column clean up, and quantitation by GC. The method has a limit of quantitation (LOQ) of 0.05 ppm for pendimethalin and the alcohol metabolite. (RD)

2. PP4F8249. (EPA-HQ-OPP-2014-0314). Dow Agro Sciences, LLC, 9330 Zionsville Road, Indianapolis, IN 46268-1054, requests to amend the tolerance in 40 CFR 180.417 for residues of the herbicide, triclopyr, [(3,5,6-trichloro-2-pyridinyl)oxy] acetic acid in or on milk, at 0.03 ppm. An analytical method using electron capture gas chromatography is used to measure and evaluate the chemical triclopyr. (RD)

New Tolerance Exemption

1. PP 3E8222. (EPA-HQ-OPP-2014-0358). IR-4, Rutgers University, 500 College Road East, Suite 201W, Princeton, NJ 08540, on behalf of CAI America LLC, 309 Fairwinds Drive, Cary, NC 27518, requests to establish an exemption from the requirement of a tolerance for residues of the nematocide, insecticide, and fungicide, Propylene Glycol Alginate, in or on all raw agricultural food commodities. The petitioner believes no analytical method is needed because there are no anticipated residues, and because there is already sufficient information with the Agency to support an existing pre- and post-harvest exemption for propylene glycol alginate when it is used as an inert ingredient per 40 CFR 180.910. (BPPD)

2. PP 3F8195. (EPA-HQ-OPP-2014-0353). D-I-1-4, Inc., a division of 1,4 Group, Inc., P.O. Box 860, Meridian, ID 83360, requests to establish an exemption from the requirement of a tolerance for residues of the 1-octanol, applied post-harvest to stored potatoes and other sprouting root and tuber crops. The petitioner believes no analytical method is needed because it is expected that, when used as proposed 1-octanol would not result in residues that are of toxicological concern. (BPPD)

3. PP 3F8219. (EPA-HQ-OPP-2014-0155). SciReg, Inc., 12733 Director's Loop, Woodbridge, VA 22192 (on behalf of Andermatt Biocontrol AG, Stahlermatten 6 CH-6146, Grossdietwil, Switzerland), requests to establish an exemption from the requirement of a tolerance for residues of the microbial active ingredient, Autographa californica multiple nucleopolyhedrovirus (AcMNPV) strain FV #11, in or on all raw and processed agricultural commodities when used on crops in accordance with good agricultural practices. The petitioner believes no analytical method is needed because it is seeking to establish an exemption from the requirement of a tolerance. (BPPD)

4. PP 4F8233. (EPA-HQ-OPP-2014-0352). DSM Food Specialties B.V., Alexander Fleminglaan 1, 2613 AX Delft, The Netherlands, requests to amend the established an exemption from the requirement of a tolerance for residues of the fungicide, natamycin (6,ll,28-Trioxatricyclo[22.3.1.05,7]octacosa-8,14,16,18,20-pentaene-25-carboxylic acid, 22-[(3-amino-3,6-dideoxy-B~D-mannopyranosyl)oxy]-l,3,26-trihydroxy-12-methyl-10-oxo-, (1R,3S,5R,7R,8E,I2R,14E,16E,18E,20E, 22R,24S,25R,26S)- at 40 CFR 180.1315, in or on mushrooms in enclosed mushroom production facilities to include post-harvest indoor use on pineapples. A worst-case estimate of the natamycin exposure in the diet were calculated using the following:

a. Maximum pineapple consumption;

b. Use of the consumption data of the most highly exposed population group; and

c. Use of the maximum residue found in the trials in any treated juice or meat sample, rather than the most probable residue.

On this basis, calculations for exposure to natamycin through consumption of treated pineapple yielded a Margin of Exposure (MOE) of approximately one million. (BPPD)

5. PP IN-10626. (EPA-HQ-OPP-2013-0695). United Phosphorus, Inc., 630 Freedom Business Center, Suite 402, King of Prussia, PA 19406, requests to establish an exemption from the requirement of a tolerance for 1,1'-iminodiproan-2-ol (diisopropanolamine; DIPA; CAS No. 110-97-4) under 40 CFR 180.910 when used as a pesticide inert ingredient in pesticide formulations as a neutralizer or stabilizer in a pesticide formulation at no more than 10% by weight of the formulation. The petitioner believes no analytical method is needed because it is not required for the establishment of a tolerance exemption for inert ingredients. (RD)

6. PP IN-10684. (EPA-HQ-OPP-2014-0325). Huntsman Corporation, 8600 Gosling Road, The Woodlands, TX 77381, requests to establish an exemption from the requirement of a tolerance for residues of the ethanesulfonic acid, 2-hydroxy-(CAS #107-36-8), and the corresponding ammonium (CAS #57267-78-4), sodium (CAS #1562-00-1), potassium (CAS #1561-99-5), calcium (10550-47-7), magnesium (17345-56-1), zinc (CAS #129756-32-7), salts under 40 CFR 180.910 and 180.930 when used as a pesticide inert ingredient in pesticide formulations on all raw agricultural commodities. The petitioner believes no analytical method is needed because it is not required for the establishment of a tolerance exemption for inert ingredients. (RD)

7. PP IN-10689. (EPA-HQ-OPP- 2014-0393). Celanese Ltd, 222 W. Las Colinas Blvd., Suite 900N, Irving, TX 75039, requests to establish an exemption from the requirement of a tolerance for residues of the acetic acid ethenyl ester, polymer with ethane, ethenyltriethoxysilane and sodium ethenesulfonate (1:1) minimum number average molecular weight (in amu) 16,200 (CAS No. 913187-38-9) under 40 CFR 180.960 when used as a pesticide inert ingredient in pesticide formulations as a binder and wetting agent for seed coating and adjuvant applications in pesticide formulations. The petitioner believes no analytical method is needed because it is not required for the establishment of a tolerance exemption for inert ingredients. (RD)

8. PP IN-10693. (EPA-HQ-OPP-2014-0326). Archer Daniels Midland Company, 4666 E. Faries Parkway, Decatur, IL 62526, requests to establish an exemption from the requirement of a tolerance for residues of the Sodium lactate, when either of the following isomers: sodium L-lactate (CAS #867-56-1) and sodium D,L-lactate (CAS #72-17-3) when used as a pesticide inert ingredient in pesticide formulations applied to growing crops, or to raw agricultural commodities post-harvest under 40 CFR 180.910. The petitioner believes no analytical method is needed because it is not required for the establishment of a tolerance exemption for inert ingredients. (RD)

9. PP IN-10697. (EPA-HQ-OPP-2014-0324). Specialty Fertilizer Products LLC, 11550 Ash Street, Suite 220, Leawood, KS 66211, requests to establish an exemption from the requirement of a tolerance for residues of the butanedioic acid, 2-methylene-, polymer with 2,5-furandione, sodium and ammonium salts, hydrogen peroxide-initiated (CAS Reg. No. 556055-76-6 and 701908-99-8) under 40 CFR 180.960 when used as a pesticide inert ingredient as a suspension agent in pesticide formulations. The petitioner believes no analytical method is needed because it is not required for the establishment of a tolerance exemption for inert ingredients. (RD)

10. PP IN-10700. (EPA-HQ-OPP-2014-0332). BASF Corporation, 100 Campus Drive, Florham Park, NJ 07932, requests to establish an exemption from the requirement of a tolerance for residues of the for 2-Propenoic acid, butyl ester, polymer with 1,6-diisocyanatohexane, N-(hydroxymethyl)-2-methyl-2-propenamide and 2-propenenitrile (CAS No. 1469998-09-1) under 40 CFR 180.960 when used as a pesticide inert ingredient in pesticide formulations as a binder polymer in a pesticide formulations without limitation. The petitioner believes no analytical method is needed because it is not required for the establishment of a tolerance exemption for inert ingredients. (RD)

11. PP 3F8193. (EPA-HQ-OPP-2014-0329). Technology Sciences Group, Inc., 1150 18th St. NW., Suite 1000, Washington, DC 20036 (on behalf of Novozymes BioAg, Inc., 13100 W. Lisbon Rd., Suite 600, Brookfield, WI 53005), requests to establish an exemption from the requirement of a tolerance for residues of Isaria fumosoroseus strain FE 9901 in or on all food commodities when applied as an insecticide or miticide and used in accordance with good agricultural practices. The petitioner believes no analytical method is needed because it is seeking to establish an exemption from the requirement of a tolerance and it expects that, when used as directed, Isaria fumosoroseus strain FE 9901 will not result in residues that are of toxicological concern. (BPPD)

List of Subjects in 40 CFR Part 180

Environmental protection, Agricultural commodities, Feed additives, Food additives, Pesticides and pests, Reporting and recordkeeping requirements.

Dated: July 21, 2014.
Lois Rossi,
Director, Registration Division, Office of Pesticide Programs.

[FR Doc. 2014-18049 Filed 7-31-14; 8:45 am]

BILLING CODE 6560-50-P